DEPARTMENT OF HEALTH AND HUMAN SERVICES

National Institutes of Health

National Institute on Drug Abuse; Amended Notice of Meeting

Notice is hereby given of changes in the meeting of the National Institute on Drug Abuse Special Emphasis Panel, February 19, 2014, 08:00 a.m. to February 20, 2014, 05:00 p.m., Hilton Garden Inn, 7301 Waverly Street, Bethesda, MD 20814 which was published in the Federal Register on January 22, 2014, 79, 15 FR 2014-01189.

The date and time of the meeting are changed to February 19, 2014, 08:00 a.m. to February 19, 2014, 06:00 p.m. The meeting is closed to the public.

Dated: January 14, 2014.
Michelle Trout,
Program Analyst, Office of Federal Advisory Committee Policy.

[FR Doc. 2014-02459 Filed 2-5-14; 8:45 am]

BILLING CODE 4140-01-P